DEPARTMENT OF HEALTH AND HUMAN SERVICES

National Institutes of Health

Center for Scientific Review; Amended Notice of Meeting

Notice is hereby given of a change in the meeting of the Center for Scientific Review Special Emphasis Panel, October 18, 2013, 1:00 p.m. to 2:00 p.m., The William F. Bolger Center, 9600 Newbridge Drive, Potomac, MD 20854 which was published in the Federal Register on September 24, 2013, 78 FR Pgs. 58547-58548.

The meeting will be held at the National Institutes of Health, 6701 Rockledge Drive, Bethesda, MD 20892. The meeting will start on October 31, 2013 at 11:00 a.m. and will end at 12:00 p.m. The meeting is closed to the public.

Dated: October 23, 2013.
David Clary,
Program Analyst, Office of Federal Advisory Committee Policy.

[FR Doc. 2013-25480 Filed 10-28-13; 8:45 am]

BILLING CODE 4140-01-P